SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: April 1-30, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists the projects, described below, receiving approval for the consumptive use of water pursuant to the Commission's approval by rule process set forth in 18 CFR 806.22(f) for the time period specified above:

Water Source Approval—Issued Under 18 CFR 806.22(f)

1. Chief Oil & Gas, LLC; Pad ID: Martino Drilling Pad #1; ABR-201604001.R1; Albany Township, Bradford County, Pa.; Consumptive Use of Up to 2.5000 mgd; Approval Date: April 2, 2021.

2. ARD Operating, LLC; Pad ID: Eugene P Nelson Pad A; ABR-201103036.R2; Cascade Township, Lycoming County, Pa.; Consumptive Use of Up to 4.0000 mgd; Approval Date: April 2, 2021.

3. Range Resources—Appalachia, LLC; Pad ID: Bobst Mountain Hunting Club #18H-#23H Drilling Pad; ABR-201103031.R2; Cogan House Township, Lycoming County, Pa.; Consumptive Use of Up to 2.0000 mgd; Approval Date: April 2, 2021.

4. Chesapeake Appalachia, L.L.C.; Pad ID: Franclaire; ABR-201012011.R2; Braintrim Township, Wyoming County, Pa.; Consumptive Use of Up to 7.5000 mgd; Approval Date: April 12, 2021.

5. Chesapeake Appalachia, L.L.C.; Pad ID: Sensinger; ABR-201104002.R2; Franklin Township, Bradford County, Pa.; Consumptive Use of Up to 7.5000 mgd; Approval Date: April 12, 2021.

6. EXCO Resources (PA), LLC; Pad ID: Doebler Drilling Pad #1; ABR-201012033.R2; Penn Township, Lycoming County, Pa.; Consumptive Use of Up to 8.0000 mgd; Approval Date: April 12, 2021.

7. Diversified Production, LLC; Pad ID: Whippoorwill; ABR-201102024.R2; Shippen Township, Cameron County, Pa.; Consumptive Use of Up to 3.0000 mgd; Approval Date: April 12, 2021.

8. SWN Production Company, LLC; Pad ID: PU-KK Valentine-Soliman Pad; ABR-201103008.R2; Lenox Township, Susquehanna County, Pa.; Consumptive Use of Up to 4.9990 mgd; Approval Date: April 12, 2021.

9. SWN Production Company, LLC; Pad ID: PU-II Ransom Stas Pad; ABR-201103007.R2; Lenox Township, Susquehanna County, Pa.; Consumptive Use of Up to 4.9990 mgd; Approval Date: April 12, 2021.

10. ARD Operating, LLC; Pad ID: COP Tr 728 C; ABR-201104004.R2; Watson Township, Lycoming County, Pa.; Consumptive Use of Up to 4.0000 mgd; Approval Date: April 12, 2021.

11. ARD Operating, LLC; Pad ID: COP Tr 728 D; ABR-201104001.R2; Cummings Township, Lycoming County, Pa.; Consumptive Use of Up to 4.0000 mgd; Approval Date: April 12, 2021.

12. SWN Production Company, LLC; Pad ID: TI-14 Connolly A Pad; ABR-201511006.R2; Liberty Township, Tioga County, Pa.; Consumptive Use of Up to 4.9990 mgd; Approval Date: April 13, 2021.

13. SWN Production Company, LLC; Pad ID: TI-19 Connolly B—Pad; ABR-201511007.R2; Liberty Township, Tioga County, Pa.; Consumptive Use of Up to 4.9990 mgd; Approval Date: April 13, 2021.

14. Seneca Resources Company, LLC; Pad ID: Yourgalite 1119; ABR-201012056.R2; Farmington Township, Tioga County, Pa.; Consumptive Use of Up to 4.0000 mgd; Approval Date: April 13, 2021.

15. Chesapeake Appalachia, L.L.C.; Pad ID: Fausto; ABR-201101015.R2; Litchfield Township, Bradford County, Pa.; Consumptive Use of Up to 7.5000 mgd; Approval Date: April 15, 2021.

16. BKV Operating, LLC; Pad ID: Baker West (Brothers); ABR-201103049; Forest Lake Township, Susquehanna County, Pa.; Consumptive Use of Up to 5.0000 mgd; Approval Date: April 15, 2021.

17. SWN Production Company, LLC; Pad ID: Price Pad; ABR-201104017.R2; Lenox Township, Susquehanna County, Pa.; Consumptive Use of Up to 4.9990 mgd; Approval Date: April 15, 2021.

18. Chief Oil & Gas, LLC; Pad ID: Noble Drilling Pad #1; ABR-201104015.R1; Lathrop Township, Susquehanna County, Pa.; Consumptive Use of Up to 2.0000 mgd; Approval Date: April 19, 2021.

19. EXCO Resources (PA), LLC; Pad ID: Houseknecht Drilling Pad #1; ABR-201012014.R2; Davidson Township, Sullivan County, Pa.; Consumptive Use of Up to 8.0000 mgd; Approval Date: April 19, 2021.

20. SWN Production Company, LLC; Pad ID: PU-CC Valentine-Price Pad; ABR-201104019.R2; Lenox Township, Susquehanna County, Pa.; Consumptive Use of Up to 4.9900 mgd; Approval Date: April 19, 2021.

21. Cabot Oil & Gas Corporation; Pad ID: LymanJ P1; ABR-201104018.R2; Springville Township, Susquehanna County, Pa.; Consumptive Use of Up to 5.0000 mgd; Approval Date: April 19, 2021.

22. Chesapeake Appalachia, L.L.C.; Pad ID: Moody; ABR-201104027.R2; Springfield Township, Bradford County, Pa.; Consumptive Use of Up to 7.5000 mgd; Approval Date: April 26, 2021.

23. Chief Oil & Gas, LLC; Pad ID: Taylor Drilling Pad #1; ABR-201104024.R2; Lenox Township, Susquehanna County, Pa.; Consumptive Use of Up to 2.0000 mgd; Approval Date: April 26, 2021.

24. Chief Oil & Gas, LLC; Pad ID: Polovitch West Drilling Pad #1; ABR-201104025.R2; Nicholson Township, Wyoming County, Pa.; Consumptive Use of Up to 2.0000 mgd; Approval Date: April 26, 2021.

25. Chesapeake Appalachia, L.L.C.; Pad ID: Stempel; ABR-201104020.R2; Asylum Township, Bradford County, Pa.; Consumptive Use of Up to 7.5000 mgd; Approval Date: April 26, 2021.

26. XTO Energy, Inc.; Pad ID: Renn Unit A; ABR-201103033.R2; Jordan Township, Lycoming County, Pa.; Consumptive Use of Up to 4.0000 mgd; Approval Date: April 26, 2021.

27. Chesapeake Appalachia, L.L.C.; Pad ID: Crain; ABR-201104028.R2; Rome Township, Bradford County, Pa.; Consumptive Use of Up to 7.5000 mgd; Approval Date: April 27, 2021.

28. Chesapeake Appalachia, L.L.C.; Pad ID: Hulslander; ABR-201104021.R2; Smithfield Township, Bradford County, Pa.; Consumptive Use of Up to 7.5000 mgd; Approval Date: April 27, 2021.

29. Chesapeake Appalachia, L.L.C.; Pad ID: Kingsley; ABR-201104029.R2; Smithfield Township, Bradford County, Pa.; Consumptive Use of Up to 7.5000 mgd; Approval Date: April 27, 2021.

30. Chesapeake Appalachia, L.L.C.; Pad ID: MPC New; ABR-201104030.R2; Cherry Township, Sullivan County, Pa.; Consumptive Use of Up to 7.5000 mgd; Approval Date: April 27, 2021.

Approvals by Rule—Issued Under 18 CFR 806.22(f)—Revocation

31. Chief Oil & Gas, LLC; Pad ID: Crandall Drilling Pad #1; ABR-201202013.R2; Ridgebury Township, Bradford County, Pa.; Revocation Date: April 1, 2021.

32. ARD Operating, LLC; Pad ID: COP Tr 356 Pad F; ABR-201007124.R1; Cummings Township, Lycoming County, Pa.; Revocation Date: April 2, 2021.

Dated: May 7, 2021.
Jason E. Oyler,
General Counsel and Secretary to the Commission.

[FR Doc. 2021-10029 Filed 5-11-21; 8:45 am]

BILLING CODE 7040-01-P